DEPARTMENT OF ENERGY

Federal Energy Regulatory Commission

[CP09-22-000]

Atmos Pipeline and Storage, LLC; Notice of Application

November 21, 2008.

Take notice that on November 12, 2008, Atmos Pipeline and Storage, LLC (Atmos), 13430 Northwest Freeway, Suite 700, Houston, Texas 77040-6316, filed an application with the Commission in Docket No. CP09-22-000, pursuant to section 7(c) of the Natural Gas Act, Subpart F of Part 157, and Subpart G of Part 284 of the Commission' Regulations for: (1) A certificate of public convenience and necessity authorizing Atmos to construct and operate a natural gas storage facility and interconnecting pipeline facilities near Fort Necessity, Franklin Parish, Louisiana; (2) a blanket certificate to construct, acquire, operate and abandon facilities; and (3) a blanket certificate to provide open-access firm and interruptible interstate natural gas storage and storage related services and the associated pre-granted abandonment authorization, as more fully set forth in the application which is open to public inspection. This filing may be also viewed on the Web at http://www.ferc.gov using the “eLibrary” link. Enter the docket number excluding the last three digits in the docket number field to access the document. For assistance, please contact FERCOnline Support at FERCOnlineSupport@ferc.gov or toll free at (866) 208-3676, or TTY, contact (202) 502-8659.

Atmos proposes to construct, own, operate, and maintain a natural gas storage facility on the Fort Necessity salt dome in Franklin Parish, Louisiana. Atmos states that it would construct and operate approximately 7.4 miles of 36-inch diameter pipeline that would connect with the mainline pipeline facilities of Tennessee Gas Pipeline, Columbia Gulf Transmission, ANR Pipeline Company, and Regency Energy Partners LP in Franklin Parish. Atmos would construct and operate four meter stations and a compressor station with a total of 42,300 HP. Atmos further states that the underground salt cavern storage facility would have a total working gas capacity of 15 Billion cubic feet (Bcf) in three salt caverns with a total of approximately 500 MMcf of maximum daily injection capability and approximately 1,500 MMcf of maximum daily withdrawal capability. Atmos also seeks authorization to charge market-based rates for its proposed services.

Any questions regarding this application should be directed to James H. Jeffries IV, Moore & Van Allen PLLC, Bank of America Corporate Center, 100 North Tryon Street, Suite 4700, Charlotte, North Carolina 28202-4003, telephone 704-331-1000, facsimile 704-339-5879, or via e-mail: jimjeffries@mvalaw.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions via the Internet in lieu of paper. See, 18 CFR 385.2001(a)(1)(iii) and the instructions on the Commission's Web site (http://www.ferc.gov) under the “e-Filing” link.

Comment Date: December 12, 2008.

Kimberly D. Bose,
Secretary.

[FR Doc. E8-28282 Filed 11-26-08; 8:45 am]

BILLING CODE 6717-01-P